ENVIRONMENTAL PROTECTION AGENCY

[EPA-HQ-OPP-2009-0008; FRL-8414-4]

SFIREG Full Committee Meeting

AGENCY: Environmental Protection Agency (EPA).

ACTION: Notice.

SUMMARY: The Association of American Pesticide Control Officials (AAPCO)/State FIFRA Issues Research and Evaluation Group (SFIREG) will hold a 2-day meeting, beginning on June 22, 2009 and ending June 23, 2009. This notice announces the location and times for the meeting and sets forth the tentative agenda topics.

DATES: The meeting will be held on Monday, June 22, 2009 from 8:30 a.m. to 5:00 p.m. and 8:30 a.m to 12 noon on Tuesday June 23, 2009

To request accommodation of a disability, please contact the person listed under FOR FURTHER INFORMATON CONTACT, preferably at least 10 days prior to the meeting, to give EPA as much time as possible to process your request.

ADDRESSES: The open meeting will be held at EPA. One Potomac Yard (South Bldg.) 2777 Crystal Dr., Arlington VA. 1st and 4th Floor South Conference Room.

FOR FURTHER INFORMATION CONTACT: Ron Kendall, Field and External Affairs Division (7506P), Office of Pesticide Programs, Environmental Protection Agency, 1200 Pennsylvania Ave., NW., Washington, DC 20460-0001; telephone number: (703 305-5561 fax number: (703) 308-1850; e-mail address: kendall.ron@epa.gov. or Grier Stayton, SFIREG Executive Secretary, P.O. Box 466, Milford DE 19963; telephone number (302) 422-8152; fax (302) 422-2435; e-mail address: grierstaytonaapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

Topics may include but are not limited to:

1. Regional Reports and Issue Papers

2. TPPC Report

3 AAPSE Report

4. 24C Discussion

5. Acetochlor label changes

6. Chemigation - pdate and Discussion

7. NPDES - latest activity update and discussion

8. Endangered Species Protection Program - recent happenings and label language

9. Indemnification Statements on Section 3 labels

10. Strychnine and its classification status

11. PPDC Update

12. FIFRA Strategic Plan - State Volunteers

13. Boiler plate language - groundwater and other statements

14. EQIWC Update

15. POM Update

16. Total Release Foggers - Update

17. EUP Guidelines for States

18. Drift Language Improvement

19. Investigative Field Notes Policy

20. Web Distributed Labels

21. Green Labeling

22. Discussion on the 2011-2013 state/tribal grant guidance, potential focus areas, process, etc.

23. Bed Bug Forum - results/action items

24. Atrazine Water Quality Criteria - May SAP

III. How Can I Request to Participate in this Meeting?

This meeting is open for the public to attend. You may also submit a request to participate in this meeting to the person listed under FOR FURTHER INFORMATION CONTACT. Do not submit any information in your request that is considered CBI. Requests to participate in the meeting, identified by docket ID number EPA-HQ-OPP-2009-0008, must be received on or before June 16, 2009 Federal Register.

List of Subjects

Environmental protection.

Dated: May 18, 2009.
W. R. Diamond,
Director, Field and External Affairs Division

[FR Doc. E9-12141 Filed 5-22-09; 8:45 am]

BILLING CODE 6560-50-S